DEPARTMENT OF HOUSING AND URBAN DEVELOPMENT

[Docket No. FR 5604-N-15]

Notice of Proposed Information Collection: Comment Request Community Development Block Grant Recovery (CDBG-R) Program

AGENCY: Office of Community Planning and Development, HUD.

ACTION: Notice.

SUMMARY: The proposed information collection requirement described below will be submitted to the Office of Management and Budget (OMB) for review as required by the Paperwork Reduction Act. The Department is soliciting public comments on the subject proposal.

DATES: Comments Due Date: February 12, 2013.

ADDRESSES: Interested persons are invited to submit comments regarding this proposal. Comments should refer to the proposal by name and/or OMB Control Number and should be sent to: Colette Pollard, Departmental Paperwork Reduction Act Officer, QDAM, Department of Housing and Urban Development, 451 7th Street SW., Room 4160, Washington, DC 20410; telephone: 202-708-3400 (this is not a toll-free number) or email Ms. Pollard for a copy of the proposed form and other available information.

FOR FURTHER INFORMATION CONTACT: Steve Johnson, Director, Entitlement Communities Division, Office of Block Grant Assistance, 451 7th Street SW., Room 7282, Washington, DC 20410; telephone (202) 708-1577 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Community Development Block Grant Recovery (CDBG-R) Program.

OMB Control Number, if applicable: 2506-0184.

Description of the need for the information and proposed use: This request identifies the estimated reporting burden associated with the reporting of CDBG-R assisted activities as they are completed and closing out the CDBG-R program. The American Recovery and Reinvestment Act of 2009 (Recovery Act) appropriated $1 Billion in Community Development Block Grant (CDBG) funds to states and local governments that received CDBG funding in Fiscal Year 2008 to carry out, on an expedited basis, eligible activities under the CDBG program. The purpose of the CDBG-R funding was to stimulate the economy through measures that modernized the Nation's infrastructure, improved energy efficiency, and expanded educational opportunities and access to health care. All CDBG-R funds were required to be expended by September 30, 2012. Any CDBG-R funds remaining after that date were recaptured by HUD and returned to Treasury.

The Recovery Act did not specify a requirement regarding the date for completion of CDBG-R assisted activities, although grantees were required to give preference to activities that could be started and completed expeditiously. While the CDBG-R expenditure deadline has passed, all CDBG-R assisted activities have not been completed. New activities were added over time when grantees amended their 2008 substantial amendments to add such activities because previously identified activities came in under budget, were identified as imprudent, or did not meet the purposes of the Recovery Act. Once CDBG-R assisted activities meet a national objective and are physically complete, grantees may proceed in closing out their CDBG-R programs. Grantees must complete their final reports in federalreporting.gov before closing out their CDBG-R grants. HUD expects grantees to be ready to begin closing out their grants by March 31, 2013.

Once final reports are completed in federalreporting.gov, grantees may begin the process of closing out their CDBG-R grants. This process requires grantees to submit their final federalreporting.gov report and prepare and submit a CDBG-R Program Grantee Closeout Certification, a CDBG-R closeout checklist, Grant Closeout Agreement, and a Federal Financial Report (SF 425) to local HUD Field Offices.

The Recovery Act requires that not later than 10 days after the end of each calendar quarter, each recipient that received recovery funds from a federal agency shall submit a report to that agency that contains: (1) The total amount of recovery funds received from that agency; (2) the amount of recovery funds received that were expended or obligated to projects or activities; and (3) a detailed list of all projects or activities for which recovery funds were expended or obligated, including (A) the name of the project or activity; (B) a description of the project or activity; (C) an evaluation of the completion status of the project or activity; (D) an estimate of the number of jobs created and the number of jobs retained by the project or activity; and (E) for infrastructure investments made by State and local governments, the purpose, total cost, and rationale of the agency for funding the infrastructure investment with funds made available under the Recovery Act and name of the person to contact at the agency if there are concerns with the infrastructure investment.

An update of the status of activities identified here must be reported quarterly in federalreporting.gov. In addition, not later than 30 calendar days after the end of each calendar quarter, each agency that made Recovery Act funds available to any recipient shall make the information in reports submitted publicly available by posting the information on a Web site. Grantees that have ongoing CDBG-R assisted activities are required to continue reporting quarterly on those activities until they are completed.

Information must be submitted using HUD's IDIS system and in federalreporting.gov. Pursuant to Section 1512 of the Recovery Act, CDBG-R grantees must enter the data into IDIS on a quarterly basis for generation of reports by HUD or other entities. In addition, grantees are required to submit reports in federalreporting.gov on a quarterly basis. Grantees will report in IDIS and federalreporting.gov for CDBG-R assisted activities, recordkeeping requirements, and reporting requirements.

The Recovery Act imposes additional reporting requirements including, but not limited to, information on the environmental review process, the expected completion of the activity, the type of activity, and the location of the activity.

Agency form numbers, if applicable: Not applicable.

Members of affected public: Grant recipients (metropolitan cities and urban counties) participating in the CDBG-R Entitlement Program.

Estimation of the total numbers of hours needed to prepare the information collection including number of respondents, frequency of response, and hours of response: The number of respondents was 1,167. However, some grantees have completed all CDBG-R assisted activities and have closed out their CDBG-R program grants. The remaining estimated number of respondents carrying out CDBG-R assisted activities and/or closing out their CDBG-R programs is 200. The proposed frequency of the response to the collection is quarterly. The total estimated burden is 25,600 hours.

Status of the proposed information collection: This submission is a revision of a currently approved collection. The current OMB approval expires on January 31, 2013.

Authority: The Paperwork Reduction Act of 1995, 44 U.S.C. Chapter 35, as amended.

Dated: December 7, 2012.
Mark Johnston,
Assistant Secretary (Acting).

[FR Doc. 2012-30203 Filed 12-13-12; 8:45 am]

BILLING CODE 4210-67-P